FEDERAL MARITIME COMMISSION

[Docket No. 01-09]

Transglobal Forwarding Co., Ltd.—Possible Violations of Section 10(a)(1) of the Shipping Act of 1984; Notice of Investigation and Hearing

Notice is given than on July 30, 2001, the Federal Maritime Commission served an Order of Investigation on Transglobal Logistic Forwarding Co., Ltd. (“Transglobal”), which is a tariffed and bonded ocean transportation intermediary (“OTI/NVOCC”). It appears that on at least 73 shipments between May 9, 1998 and March 28, 1999, Transglobal knowingly and willfully obtained or attempted to obtain ocean transportation at less than the applicable rates through accessing service contracts to which it was not a signatory or affiliate. This proceeding therefore seeks to determine (1) whether Transglobal violated section 10(a)(1) of the Shipping Act of 1984 (“Shipping Act”) by knowingly and willfully, directly or indirectly, by means of false billing, false classification, false weighing, false report of weight, false measurement, or by any other unjust or unfair device or means, obtaining or attempting to obtain ocean transportation for property at less than the rates or charges that would otherwise have been applicable; (2) whether, in the event violations of section 10(a)(1) of the Shipping Act are found, civil penalties should be assessed against Transglobal and, if so, the amount of penalties to be assessed; and (3) whether, in the event violations are found, an appropriate cease and desist order should be issued. The full text of the Order may be viewed on the Commission's home page at http://www.fmc.gov/, or at the Office of the Secretary, Room 1046, 800 N. Capitol Street, NW., Washington, DC. Any person may file a petition for leave to intervene in accordance with 46 CFR 502.72.

Bryant L. VanBrakle,
Secretary.

[FR Doc. 01-20289 Filed 8-13-01; 8:45 am]

BILLING CODE 6730-01-P